DEPARTMENT OF COMMERCE

International Trade Administration

[C-533-821]

Notice of Correction to Notice of Intent to Rescind Countervailing Duty Administrative Review: Certain Hot-Rolled Carbon Steel Flat Products from India

AGENCY: Import Administration, International Trade Administration, Department of Commerce.

EFFECTIVE DATE: April 20, 2006.

FOR FURTHER INFORMATION CONTACT: Preeti Tolani, AD/CVD Operations, Office 3, Import Administration, International Trade Administration, U.S. Department of Commerce, 14th Street and Constitution Avenue, NW., Washington, DC 20230; telephone: 202-482-0395.

SUPPLEMENTARY INFORMATION:

CORRECTION:

On March 28, 2006, the Department of Commerce (the Department) published its intent to rescind the countervailing duty administrative review of certain hot-rolled carbon steel flat products from India, covering the period of January 1, 2005, through December 31, 2005. See Notice of Intent to Rescind Countervailing Duty Administrative Review: Certain Hot-Rolled Carbon Steel Flat Products from India, 71 FR 15379 (March 28, 2006) (HRC Intent to Rescind). Subsequent to the publication of the intent to rescind, we identified an inadvertent error in the Federal Register. The case number associated with the HRC Intent to Rescind is incorrect. The correct case number is C-533-821. This notice is to serve as a correction to the case number. The determination in the HRC Intent to Rescind is correct and remains unchanged.

This correction is issued and published in accordance with section 777(i) of the Tariff Act of 1930, as amended.

Dated: April 12, 2006.
Stephen J. Claeys,
Acting Assistant Secretary for Impo Administration.

[FR Doc. E6-5948 Filed 4-19-06; 8:45 am]

BILLING CODE 3510-DS-S